LIBRARY OF CONGRESS

Notice: Competition/Russian Leadership Program 2001

Authority: Sec. 1(a)(2), Pub. L. 106-554, 114 Stat. 2763, 2763A-119-120 (22 U.S.C. 2542a note, 2 U.S.C. 1151).

SUMMARY: The Russian Leadership Program (RLP) at the Library of Congress was authorized by Public Law 106-31; Public Law 106-113; Public Law 106-554 to foster a mutual exchange of ideas and opinions among political leaders and citizens of Russia and the United States. A description of RLP Program can be found at http://www.loc.gov/rlp. The RLP is considering continuing its U.S. Congress/Russian Parliamentary exchange program for 2001 and expanding exchanges to include members of the Russian Judiciary. The Library is seeking to identify interested participants to develop hosting arrangements and programmatic support for exchanges in the following areas: rule of law, education, environmental issues, agriculture/land reform, public health policy, federalism, tax/budget, and other major policy issues of mutual concern to the U.S. and the Russian Federation. The Library anticipates between 6 and 12 delegations composed of approximately 8-10 individuals from the highest levels of the Russian government and regions.

DATES: Responses must be received by May 1, 2001.

ADDRESSES: The Library of Congress, Contracts & Logistics Service, COTR: Morgan Day, C&L, 101 Independence Avenue, SE., Washington, DC 20540-9410.

FOR FURTHER INFORMATION CONTACT: Ruth Nelson of Contracts and Logistics, Library of Congress, Washington, DC 20540-9410. Email address: rune@loc.gov.

SUPPLEMENTARY INFORMATION: Respondents should have broad experience with the Russian Federation, and be knowledgeable about its institutions, language, and culture. Respondents should have experience planning and hosting high level officials with demonstrated expertise in two or more of the above subject areas and demonstrated ability to arrange and secure appropriate meetings at federal and state levels. The funding made available by the Library would cover travel, per diem, interpretation, preparation and translation of program materials. Respondents may be asked to work collaboratively with a third party in addition to the Library to execute the exchange. The Library does not anticipate any need for coordination in Russia for purposes of the exchange. This Request for Information (RFI) shall close to response 14 days after publication. Interested parties should send written expressions of interest to Ruth Nelson at rune@loc.gov. The written expression of interest should address capabilities, experience, and language expertise of current staff, etc. as outlined above. Submissions should be limited to 6 pages. The Library shall entertain expressions of interest reflecting individual or collaborative approaches. The intent of this sources sought synopsis is to determine if any sources exist, therefore, no solicitation is available. Consequently, any responses failing to provide the aforementioned data but instead is submitted as a routine letter requesting a copy of the solicitation will be ignored. Written responses must be submitted to the Contracting Officer by the deadline at the address shown above. Reference: RFI-010.

Dated: April 4, 2001.
Approved by:
James H. Billington,
The Librarian of Congress.

[FR Doc. 01-9438 Filed 4-16-01; 8:45 am]

BILLING CODE 1410-10-P